DEPARTMENT OF EDUCATION

National Educational Research Policy and Priorities Board; Teleconference

AGENCY: National Educational Research Policy and Priorities Board; Education.

ACTION: Notice of meeting by teleconference.

SUMMARY: This notice sets forth the schedule and proposed agenda of a forthcoming meeting by teleconference of the National Educational Research Policy and Priorities Board. Notice of this meeting is required under Section 10(a)(2) of the Federal Advisory Committee Act. This document is intended to notify the general public of their opportunity to attend the meeting. The public is being given less than 15 days' notice of this meeting because of the need to expedite decisions on funding major initiatives of the Board.

DATES: February 22, 2000.

TIME: 2-4 p.m., EST.

LOCATION: Room 100, 80 F St., NW, Washington, D.C. 20208-7564.

FOR FURTHER INFORMATION CONTACT: Thelma Leenhouts, Designated Federal Official, National Education Research Policy and Priorities Board, Washington, D.C. 20208-7564. Tel.: (202) 219-2065; fax: (202) 219-1528; e-mail: Thelma_Leenhouts@ed.gov. The main telephone number for the Board is (202) 208-0692.

SUPPLEMENTARY INFORMATION: The National Educaitonal Research Policy and Priorities Board is authorized by Section 921 of the Educational Research, Development, Dissemination, and Improvement Act of 1994. The Board works collaboratively with the Assistant Secretary for the Office of Educational Research and Improvement to forge a national consensus with respect to a long-term agenda for educational research, development, and dissemination, and to provide advice and assistance to the Assistant Secretary in administering the duties of the Office. The meeting is open to the public. Persons who wish to attend should contact the Board office at (202) 208-0692. The Board will review and give final approval to revisions of its budget plan for the remainder of FY 2000. Records are kept of all Board proceedings and are available for public inspection at the office of the National Educational Research Policy and Priorities Board, Suite 100, 80 F St., NW, Washington, D.C. 20208-7564.

Dated: February 11, 2000.
Eve M. Bither,
Executive Director.

[FR Doc. 00-3680 Filed 2-15-00; 8:45 am]

BILLING CODE 4000-01-M